DEPARTMENT OF HEALTH AND HUMAN SERVICES

Centers for Disease Control and Prevention

National Organization Strategies for the Prevention, Early Detection and Control of Chronic Disease by Chief Elected Officials of Cities

Announcement Type: New.

Funding Opportunity Number: 04072.

Catalog of Federal Domestic Assistance Number: 93.283.

Key Dates: Application Deadline: February 13, 2004.

I. Funding Opportunity Description

Authority: This program is authorized under section 301(a) of the Public Health Service Act, (42 U.S.C. 241(a)).

Purpose: The purpose of the program is to support a national organization in the development and implementation of educational initiatives that can be used by chief elected officials in applying effective strategies to prevent and control cancer and other chronic diseases, chronic disease risk factors, and chronic disease health disparities in their cities. This program addresses the “Healthy People 2010” focus areas of: Tobacco Use; Physical Activity and Fitness; Nutrition and Overweight; Public Health Infrastructure; Oral Health; Arthritis; Osteoporosis and Chronic Back Conditions; Educational and Community-Based Programs; Adolescent and School Health; Cancer; Diabetes; Disability and Secondary Condition; Health Communication; Heart Disease and Stroke; Maternal; Infant and Child Health; Substance Abuse. To accomplish the purpose of this program announcement, components of the project are to be addressed as indicated in section “IV.2. Content and Form of Submission” of this program announcement.

Measurable outcomes of the program will be in alignment with one (or more) of the following performance goals for the National Center for Chronic Disease Prevention and Health Promotion (NCCDPHP):

• Promote health and reduce chronic disease associated with diet and weight.

• Improve health, fitness and quality of life through daily physical activity.

• Reduce illness, disability, and death related to tobacco use and exposure to secondhand smoke.

• Increase the proportion of women aged 40 years and older who have received a mammogram within the preceding two years.

• Increase the proportion of adults who receive a colorectal cancer screening examination.

• Increase the proportion of women who receive a Pap test.

• Increase the proportion of cancer survivors who are living 5 years or longer after diagnosis.

• Improve cardiovascular health and quality of life through the prevention, detection, and treatment of risk factors; early identification and treatment of heart attacks and strokes; and prevention of recurrent cardiovascular events.

• Through prevention programs, reduce the disease and economic burden of diabetes, and improve the quality of life for all persons who have or are at risk for diabetes.

• To support the missions of other chronic disease prevention and control programs at the National Center for Chronic Disease Prevention and Health Promotion.

Activities:

Awardee activities for this program are as follows:

a. Develop educational initiatives and provide an informational forum on cancer and other chronic disease prevention and health promotion issues in local communities. This activity may include a diversity of media such as printed materials, websites, and conferences.

b. Provide constituents with accurate, comprehensive and timely information on cancer and other chronic disease prevention and health promotion and control issues to encourage the formulation of educational programming.

c. Participate in CDC-sponsored meetings and events, as appropriate.

d. Coordinate activities with the National Association of County and City Health Officers, and local organizations within the scope of this program announcement, when feasible and appropriate.

e. Establish specific, measurable, and realistic short-term (one year) and long-term (three year) program objectives that are consistent with the purpose of this program announcement. Develop a well-designed evaluation plan of each goal and objective. Performance will be based on the submission of realistic, time-phased, and achievable goals and objectives.

f. Identify and select appropriate staff, based on experience and capability, to successfully implement the program activities.

In a cooperative agreement, CDC staff is substantially involved in the program activities, above and beyond routine grant monitoring.

CDC Activities for this program are as follows:

a. Partner with recipients in the development, implementation, evaluation, and dissemination of programs designed to improve knowledge and attitudes to prevent and control cancer and other chronic disease within constituent communities.

b. Provide periodic updates about public knowledge, attitudes, and practices regarding chronic disease prevention and control, including up-to-date scientific information.

c. Partner with recipient to identify appropriate and specific venues to share and disseminate information.

d. Partner with recipients in the development of publications and educational materials that relate to chronic disease prevention and health promotion.

e. Identify liaisons with other organizations that are interested in chronic disease prevention and health promotion at the local level.

f. Identify chronic disease and health promotion best practices for specific populations within selected communities.

II. Award Information

Type of Award: Cooperative Agreement. CDC involvement in this program is listed in the Activities Section above.

Fiscal Year Funds: 2004.

Approximate Total Funding: $300,000 ($150,000 for chronic disease prevention and health promotion and $150,000 for cancer prevention and control).

Approximate Number of Awards: One.

Approximate Average Award: $300,000. (This amount is for the first 12-month budget period, and includes both direct and indirect costs.)

Floor of Award Range: None.

Ceiling of Award Range: $300,000.

Anticipated Award Date: March 1, 2004.

Budget Period Length: 12 months.

Project Period Length: Three years.

Throughout the project period, CDC's commitment to continuation of awards will be conditioned on the availability of funds, evidence of satisfactory progress by the recipient (as documented in required reports), and the determination that continued funding is in the best interest of the Federal Government.

III. Eligibility Information

III.1. Eligible Applicants

Applications may be submitted by:

• Public nonprofit organizations;

• Private nonprofit organizations; and

• Faith-based organizations.

Eligible organizations must have the capacity to coordinate a national collaborative initiative targeting local elected officials. Only organizations with a national reach are eligible to apply.

III.2. Cost Sharing or Matching

Matching funds are not required for this program.

III.3. Other Eligibility Requirements

If you request a funding amount greater than the ceiling of the award range, your application will be considered non-responsive and will not be entered into the review process. You will be notified that you did not meet the submission requirements.

If your application is incomplete or non-responsive to the requirements listed below, it will not be entered into the review process. You will be notified that your application did not meet the submission requirements. Applicants should have prior experience working with one or more chronic diseases and with chief elected officials from United States cities with populations of 30,000 or more. In addition, applicants must have the capacity and ability to conduct national programs and activities related to promoting health education, awareness, and information dissemination of chronic disease prevention and control issues in collaboration with chief elected officials of United States cities. The applicant should document eligibility by providing a concise summary that clearly describes (a) status as a national organization; (b) constituency of chief elected officials of cities; and (c) demonstrated outcome/accomplishments from previous chronic disease prevention and control efforts. Sample materials produced can be provided in appendices.

Note: Title 2 of the United States Code section 1611 states that an organization described in section 501(c)(4) of the Internal Revenue Code that engages in lobbying activities is not eligible to receive Federal funds constituting an award, grant or loan.

IV. Application and Submission Information

IV.1. Address to Request Application Package

To apply for this funding opportunity use application form PHS 5161. Application forms and instructions are available on the CDC Web site, at the following Internet address: http://www.cdc.gov/od/pgo/forminfo.htm

If you do not have access to the Internet, or if you have difficulty accessing the forms on-line, you may contact the CDC Procurement and Grants Office Technical Information Management Section (PGO-TIM) staff at: 770-488-2700. Application forms can be mailed to you.

IV.2. Content and Form of Submission

Application: You must include a project narrative with your application forms. Your narrative must be submitted in the following format:

• Maximum number of pages: For both components is 50 pages—if your narrative exceeds the page limit, only the first pages which are within the page limit will be reviewed.

• Font size: 12 point unreduced;

• Paper size: 8.5 by 11 inches;

• Page margin size: One inch;

• Printed only on one side of page, double spaced;

• Held together only by rubber bands or metal clips, not bound in any other way.

Your narrative should address activities to be conducted for cancer prevention and control and chronic disease prevention and control for the entire project period, and should include the following items in the order listed:

1. Executive Summary

Describe prior experience working with one or more chronic diseases and with chief elected officials from United States cities with populations of 30,000 or more. In Describe the level of capacity and ability to conduct national programs and activities related to promoting health education, awareness, and information dissemination of chronic disease prevention and control issues in collaboration with chief elected officials of United States cities. Document eligibility by providing a concise summary that clearly describes (a) status as a national organization; (b) constituency of chief elected officials of cities; and (c) demonstrated outcome/accomplishments from previous chronic disease prevention and control efforts. Sample materials produced can be provided in appendices.

2. Background and Need

Describe the need for the proposed activities and the context in which the work will be conducted. Provide descriptions of the constituent population and how your organization will play a significant role in chronic disease prevention, either by direct or indirect impact.

3. Method

Submit a plan that describes the methodologies for conducting awardee activities outlined in the Activities section. Identify strategies and activities for increasing the applicant's involvement in promoting and supporting chronic disease prevention and control programs over the next three years.

Explain how planned activities relate to the purpose of this program announcement. The plan should identify and establish a timeline for the completion of each component or major activity. The plan should identify how previous experience in the prevention and control of cancer and other chronic diseases will inform the activities being planned.

4. Goals and Objectives

List goals specifically related to program requirements and indicate expected program outcomes at the end of the three-year project period. Provide objectives that are specific, measurable, feasible, and time phased to be accomplished during the projected 12-month budget period. Objectives should relate directly to the project goals and recipient activities.

Describe goals and objectives in narrative form and provide a timetable, with specific activities that are related to each objective during the projected 12-month budget period. Indicate when each activity will occur, as well as when preparations for activities will occur. Also indicate who will be responsible for each activity and identify staff assigned to each activity.

5. Project Management and Staffing Plan

a. Describe the proposed staffing for the project and submit job descriptions illustrating the level of organizational responsibility for professional staff that will be assigned to the project.

b. In the application appendices, include a curriculum vitae for each professional staff member named in the proposal.

c. Describe the organization's structure and function, how that structure supports health promotion and education activities, activities on the local level, and methods of current communication with members.

6. Evaluation Plan

Describe how each of the activities and their impact will be evaluated. Describe how progress toward meeting project objectives will be monitored.

The evaluation plan should address measures considered critical to determine the success of the plan outlined by the applicant, and results should be used for improvement of the intended plan.

7. Budget and Accompanying Justification

Provide a detailed line-item budget and narrative justification describing operating expenses consistent with the proposed objectives and planned activities. Provide a precise description for each budget item and itemize calculations when appropriate. Applicants should include budget items for travel trips to two CDC sponsored meetings. The budget and accompanying justification will not be counted in the stated page limit.

Additional information may be included in the application appendices. The appendices will not be counted toward the narrative page limit. This additional information includes:

• Curriculum Vitae;

• Job Descriptions;

• Organizational Charts;

• Any other supporting documentation.

You are required to have a Dun and Bradstreet Data Universal Numbering System (DUNS) number to apply for a grant or cooperative agreement for the federal government. The DUNS number is a nine-digit identification number, which uniquely identifies business entities. Obtaining a DUNS number is easy and there is no charge. To obtain a DUNS number, access http://www.dunandbradstreet.com or call 1-866-705-5711.

For more information, see the CDC Web site at: http://www.cdc.gov/od/pgo/funding/pubcommt.htm. If your application form does not have a DUNS number field, please write your DUNS number at the top of the first page of your application, and/or include your DUNS number in your application cover letter.

Additional requirements that may require you to submit additional documentation with your application are listed in section “VI.2. Administrative and National Policy Requirements.”

IV.3. Submission Dates and Times

Application Deadline Date: February 13, 2004.

Explanation of Deadlines: Applications must be received in the CDC Procurement and Grants Office by 4 p.m. Eastern Time on the deadline date. Any applicant who sends their application by the United States Postal Service or commercial delivery services must ensure that the carrier will be able to guarantee delivery of the application by the closing date and time. If an application is received after closing due to (1) carrier error, when the carrier accepted the package with a guarantee for delivery by the closing date and time, or (2) significant weather delays or natural disasters, CDC will, upon receipt of proper documentation, consider the application as having been received by the deadline.

This program announcement is the definitive guide on application format, content, and deadlines. It supersedes information provided in the application instructions. If your application does not meet the deadline above, it will not be eligible for review, and will be discarded. You will be notified that you did not meet the submission requirements.

CDC will not notify you upon receipt of your application. If you have a question about the receipt of your application, first contact your courier. If you still have a question, contact the PGO-TIM staff at: 770-488-2700. Before calling, please wait two to three days after the application deadline. This will allow time for applications to be processed and logged.

IV.4. Intergovernmental Review of Applications

Executive Order 12372 does not apply to this program.

IV.5. Funding Restrictions

Funding restrictions, which must be taken into account while writing your budget, are as follows:

• Funds may be spent for reasonable program purposes, including personnel, travel, supplies, and services.

• Equipment may be purchased, with appropriate justification, including cost comparison of purchase with lease. Although contracts with other organizations are allowable, the recipient of this grant must perform a substantial portion of activities for which funds are requested.

• Cooperative agreement funds may not supplant existing funds from any other public or private source.

• Funds may not be expended for construction, renovation of existing facilities, or relocation of headquarters or affiliates.

• Funds may not be used for clinical services.

• If you are requesting indirect costs in your budget, you must include a copy of your indirect cost rate agreement. If your indirect cost rate is a provisional rate, the agreement must be less than 12 months of age.

• Pre-award costs will not be reimbursed.

Guidance for completing your budget can be found on the CDC Web site, at the following Internet address: http://www.cdc.ogv/od/pgo/funding/budgetguide.htm.

IV.6. Other Submission Requirements

Application Submission Address: Submit the original and two hard copies of your application by mail or express delivery service to: Technical Information Management—PA04072, CDC Procurement and Grants Office, 2920 Brandywine Road, Atlanta, GA 30341-4146.

Applications may not be submitted electronically at this time.

V. Application Review Information

V.1. Criteria

You are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation.

Your application will be evaluated against the following criteria: Evaluation Criteria (100 points total).

1. Goals and Objectives (30 points)

The extent to which the applicant's plan for achieving the proposed activities appears realistic, feasible and relates to the programmatic requirements and purposes of this program announcement, including the degree to which short-term (one year) and long-term (three year) objectives are specific, time-phased, measurable, realistic and related to identified needs.

2. Project Management and Staffing (20 points)

The degree to which proposed staffing, organizational structure, staff experience and background, training needs or plan, job descriptions and curricula vitae for both proposed and current staff indicate past experience in carrying out similar programs, and the ability to carry out the purposes of the current program.

3. Method (20 points)

The extent to which the applicant describes the methodologies for carrying out the recipient activities as outlined in the program requirements with a corresponding timeline for the completion of each major activity.

4. Evaluation Plan (20 points)

The extent to which the proposed evaluation plan addresses progress toward meeting goals and objectives, assesses impact, and appears to be reasonable and feasible.

5. Background and Need (10 points)

The extent to which the applicant describes the chronic disease burden and specific needs related to the purpose of this program announcement.

6. Budget and Justification (Not scored)

The extent to which the budget is reasonable and consistent with the purpose and activities of the program.

V.2. Review and Selection Process

Applications will be reviewed for completeness by the Procurement and Grants Office (PGO) staff, and for responsiveness by program staff. Incomplete applications and applications that are non-responsive to the eligibility criteria will not advance through the review process. Applicants will be notified that their application did not meet submission requirements.

An objective review panel will evaluate complete and responsive applications according to the criteria listed in the “V.1. Criteria” section above.

V.3. Anticipated Announcement Award Date

March 1, 2004.

VI. Award Administration Information

VI.1. Award Notices

Successful applicants will receive a Notice of Grant Award (NGA) from the CDC Procurement and Grants Office. The NGA shall be the only binding, authorizing document between the recipient and CDC. The NGA will be signed by an authorized Grants Management Officer, and mailed to the recipient fiscal officer identified in the application.

Unsuccessful applicants will receive notification of the results of the application review by mail.

VI.2. Administrative and National Policy Requirements

45 CFR part 74 and part 92. For more information on the Code of Federal Regulations, see the National Archives and Records Administration at the following Internet address: http://www.access.gpo.gov/nara/cfr/cfr-table-search.html.

The following additional requirements apply to this project: AR-10 Smoke-Free Workplace Requirements; AR-11 Healthy People 2010; AR-12 Lobbying Restrictions; AR-15 Proof of Non-Profit Status.

Additional information on these requirements can be found on the CDC Web site at the following Internet address: http://www.cdc.gov/od/pgo/funding/ARs.htm

VI.3. Reporting Requirements

You must provide CDC with the original, plus two hard copies of the following reports:

1. Interim progress report, no less than 90 days before the end of the budget period. The progress report will serve as your non-competing continuation application, and must contain the following elements:

a. Current Budget Period Activities Objectives.

b. Current Budget Period Financial Progress.

c. New Budget Period Program Proposed Activity Objectives.

d. Detailed Line-Item Budget and Justification.

e. Additional Requested Information.

f. Measures of Effectiveness.

2. Financial status report and annual progress report, no more than 90 days after the end of the budget period.

3. Final financial and performance reports, no more than 90 days after the end of the project period.

These reports must be sent to the Grants Management Specialist listed in the “Agency Contacts” section of this announcement.

VII. Agency Contacts

For general questions about the announcement, contact: Technical Information Management, CDC Procurement and Grants Office, 2920 Brandywine Road, Atlanta, GA 30341-4146, Telephone: 770-488-2700.

For program technical assistance, contact: Jennifer Tucker, 4770 Buford Highway, MS K-40, Atlanta, GA 30341, Telephone: 770-488-6454, E-mail: jrt5@cdc.gov.

For business management and budget assistance, contact: Tracey Sims, Contract Specialist, CDC Procurement and Grants Office, 2920 Brandywine Road, Atlanta, GA 30341-4146, Telephone: 770-488-2739, E-mail: atu9@cdc.gov.

Dated: December 22, 2003.
Sandra R. Manning,
Director, Procurement and Grants Office, Centers for Disease Control and Prevention.

[FR Doc. 03-31971 Filed 12-29-03; 8:45 am]

BILLING CODE 4163-18-P